FEDERAL TRADE COMMISSION

Granting of Request for Early Termination of the Waiting Period Under the Premerger Notification Rules

Section 7A of the Clayton Act, 15 U.S.C. 18a, as added by Title II of the Hart-Scott-Rodin Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[April 1, 2011 thru April 29, 2011]
ET date | Trans. No. | ET req status | Party name
04/01/2011 | 20110676 | G | Epiq Systems, Inc.; Frontenac VIII Limited Partnership; Epiq Systems, Inc.
| 20110678 | G | EMC Corporation; NetWitness Corporation; EMC Corporation
| 20110681 | G | Sidney B. DeBoer; Gregory S. Rasmussen; Sidney B. DeBoer
| 20110689 | G | International Petroleum Investment Company; Compania Espanola de Petroleos, S.A.; International Petroleum Investment Company
| 20110690 | G | Mr. Yitshak Sharon (Tshuva); Ergon, Inc.; Mr. Yitshak Sharon (Tshuva)
04/04/2011 | 20110703 | G | Cephalon, Inc.; Gemin X Pharmaceuticals, Inc.; Cephalon, Inc.
04/05/2011 | 20110679 | G | Brazos Equity Fund III, L.P.; TLC Holdings, LLC; Brazos Equity Fund III, L.P.
| 20110700 | G | Friedman Fleischer & Lowe Capital Partners III, L.P.; Thoma Cressey Fund VIII, L.P.; Friedman Fleischer & Lowe Capital Partners III, L.P.
04/07/2011 | 20110697 | G | Cowen Group, Inc.; LaBranche & Co. Inc.; Cowen Group, Inc.
04/08/2011 | 20110557 | G | James Ratcliffe; Styrolution; James Ratcliffe
| 20110558 | G | BASF SE; Styrolution; BASF SE
| 20110567 | G | Kindred Healthcare, Inc.; RehabCare Group, Inc.; Kindred Healthcare, Inc.
| 20110693 | G | Berkshire Hathaway Inc.; The Lubrizol Corporation; Berkshire Hathaway Inc.
| 20110701 | G | International Business Machines Corporation; The AM3 Irrevocable Trust; International Business Machines Corporation
| 20110702 | G | Gores Capital Partners III, L.P.; The Azalea Fund III, L.P.; Gores Capital Partners III, L.P.
| 20110708 | G | Wellspring Capital Partners IV, L.P.; Wells Fargo & Company; Wellspring Capital Partners IV, L.P.
| 20110710 | G | Charles W. Ergen; DBSD North America, Inc.; Charles W. Ergen.
| 20110712 | G | CB Richard Ellis Group, Inc.; ING Groep N.V.; CB Richard Ellis Group, Inc.
| 20110720 | G | Dr. Patrick Soon-Shiong, M.D.; Celgene Corporation; Dr. Patrick Soon-Shiong, M.D.
| 20110722 | G | Schneider Electric SA; Weston Presidio V, L.P.; Schneider Electric SA.
| 20110728 | G | Charles W. Ergen; Blockbuster Inc.—Debtor-in-Possession; Charles W. Ergen.
04/11/2011 | 20110718 | G | Carl C. Icahn; Blockbuster Inc.—Debtor-in-Possession; Carl C. Icahn.
04/13/2011 | 20110716 | G | Align Technology, Inc.; Cadent Holdings, Inc.; Align Technology, Inc.
| 20110717 | G | Kirby Corporation; First Reserve Fund XI, L.P.; Kirby Corporation.
| 20110719 | G | Carlyle U.S. Growth Fund III, L.P.; Redflex Holdings Limited; Carlyle U.S. Growth Fund III, L.P.
| 20110723 | G | Highstar Capital IV Prism, L.P.; LS Power Equity Partners, L.P.; Highstar Capital IV Prism, L.P.
04/14/2011 | 20110666 | G | James River Coal Company; International Resource Partners LP; James River Coal Company.
04/15/2011 | 20110724 | G | London Stock Exchange Group plc; TMX Group Inc.; London Stock Exchange Group plc.
| 20110725 | G | PerkinElmer, Inc.; CambridgeSoft Corporation; PerkinElmer, Inc.
| 20110737 | G | LLR Equity Partners III, L.P.; Tom Gores; LLR Equity Partners III, L.P.
| 20110739 | G | Bernard Arnault; Bulgari S.p.A.; Bernard Arnault.
| 20110744 | G | Apax Europe VII-B, L.P.; Epicor Software Corporation; Apax Europe VII-B, L.P.
| 20110745 | G | Apax Europe VII-B, L.P.; Hellman & Friedman Capital Partners V, L.P.; Apax Europe VII-B, L.P.
04/18/2011 | 20110732 | G | Michael G. Rubin; eBay Inc.; Michael G. Rubin.
| 20110733 | G | eBay Inc.; GSI Commerce, Inc.; eBay Inc.
| 20110734 | G | AGL Resources Inc.; Nicor Inc.; AGL Resources Inc.
| 20110743 | G | Warburg Pincus Private Equity X, L.P.; Rural/Metro Corporation; Warburg Pincus Private Equity X, L.P.
04/19/2011 | 20110735 | G | Chicago Growth Partners II, L.P.; Richard Stamper; Chicago Growth Partners II, L.P.
| 20110738 | G | Arlington Capital Partners H, L.P.; Jeffrey D. Smock; Arlington Capital Partners II, L.P.
04/22/2011 | 20110682 | G | Manulife Financial Corporation; Electric Power Development Co., Ltd.; Manulife Financial Corporation.
| 20110731 | G | The Charles Schwab Corporation; optionsXpress, Holdings, Inc.; The Charles Schwab Corporation.
| 20110736 | G | AMETEK, Inc.; River V. L.P.; AMETEK, Inc.
| 20110741 | G | Cephalon, Inc.; ChemGenex Pharmaceuticals Limited; Cephalon, Inc.
| 20110748 | G | Genpact Limited; Headstrong Corporation; Genpact Limited.
| 20110752 | G | Andrea Pignataro; Warburg Pincus Private Equity IX, L.P.; Andrea Pignataro.
| 20110753 | G | Parkway Properties, Inc.; James R. Heistand; Parkway Properties, Inc.
| 20110756 | G | SEI, Inc.; Retail Ventures, Inc.; SEI, Inc.
| 20110757 | G | Schottenstein RVI, LLC; Retail Ventures, Inc.; Schottenstein RVI, LLC.
| 20110758 | G | Terry Taylor; Estate of R.C. Alexander; Terry Taylor.
| 20110760 | G | TCV VII, L.P.; K12 Inc.; TCV VII, L.P.
| 20110761 | G | Klockner & Co. SE; The Second Dave Samson Trust; Klockner & Co. SE.
| 20110765 | G | JSM Acquisition, L.P.; Padres L.P.; JSM Acquisition, L.P.
04/25/2011 | 20110751 | G | Walter Investment Management Corp.; Centerbridge Capital Partners AIV II, L.P.; Walter Investment Management Corp.
04/26/2011 | 20110278 | G | Hikma Pharmaceuticals PLC; Baxter International Inc.; Hikma Pharmaceuticals PLC.
04/29/2011 | 20110709 | G | Bronson Healthcare Group, Inc.; Trinity Health Corporation; Bronson Healthcare Group, Inc.
| 20110770 | G | Frac Tech International, LLC; World Investment Group, LLC; Frac Tech International, LLC.
| 20110775 | G | Investindustrial III, L.P.; Momentive Performance Materials Holdings LLC; Investindustrial III, L.P.
| 20110780 | G | Jefferies Group, Inc.; Prudential Financial, Inc.; Jefferies Group, Inc.
| 20110782 | G | New Mountain Partners III, L.P.; Dr. Romesh Wadhwani; New Mountain Partners III, L.P.
| 20110783 | G | KKR 2006 Fund (Overseas), Limited Partnership; Pfizer Inc.; KKR 2006 Fund (Overseas), Limited Partnership.
| 20110786 | G | Permira IV Continuing L.P.2; The Lightyear Fund, L.P.; Permira IV Continuing L.P.2.

FOR FURTHER INFORMATION CONTACT: Sandra M. Peay, Contact Representative; or Renee Chapman, Contact Representative, Federal Trade Commission, Premerger Notification Office, Bureau of Competition, Room H-303, Washington, DC 20580, (202) 326-3100.

By direction of the Commission.
Donald S. Clark,
Secretary.

[FR Doc. 2011-11303 Filed 5-10-11; 8:45 am]

BILLING CODE 6750-01-M